DEPARTMENT OF LABOR

Office of the Secretary

Submission for OMB Review; Comment Request

December 15, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation, contact Darrin King on 202-693-4129 (this is not a toll-free number) or by E-Mail: king.darrin@dol.gov.

Comments should be sent to Office of Information and Regulatory Affairs, Attn: OMB Desk Officer for the Mine Safety and Health Administration (MSHA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration.

Title: Gamma Radiation Exposure Records.

OMB Number: 1219-0039.

Affected Public: Business or other for-profit.

Type of Response: Recordkeeping.

Frequency: Annually.

Number of Respondents: 2.

Number of Annual Responses: 2.

Estimated Time Per Response: 1 hour.

Total Burden Hours: 2.

Total Annualized Capital/Startup Costs: $0.

Total Annual Costs (operating/maintaining systems or purchasing services): $0.

Description: Title 30, CFR § 57.5047 requires that gamma radiation surveys be conducted annually in all underground mines where radioactive ores are mined. The Standard also requires, where average gamma radiation measurements are in excess of 2.0 milliroentgens per hour in the working place, that gamma radiation dosimeters be provided for all persons affected, and that records of cumulative individual gamma radiation exposure be kept. These recordkeeping requirements are necessary to protect miners from adverse health affects resulting from occupational exposure to gamma radiation.

Type of Review: Extension of a currently approved collection.

Agency: Mine Safety and Health Administration.

Title: Mine Rescue Teams; Arrangements for Emergency Medical Assistance; and Arrangements for Transportation for Injured Persons.

OMB Number: 1219-0078.

Affected Public: Business or other for-profit.

Type of Response: Recordkeeping, Reporting, and Third party disclosure.

Frequency: On occasion; Bi-monthly; Monthly; and Annually.

Average Response Time: Varies from 15 minutes to 4 hours.

Cite/Reference | Annual responses | Hour burden
30 CFR 49.2:
Coal | 117 | 117
Metal/Non-metal | 31 | 31
30 CFR 49.3 and 49.4:
Coal | 2 | 4
Metal/Non-metal | 11 | 22
30 CFR 49.6:
Coal | 14,868 | 4,510
Metal/Non-metal | 14,904 | 4,521
30 CFR 49.7:
Coal | 1,652 | 3,511
Metal/Non-metal | 1,656 | 3,519
30 CFR 49.8:
Coal | 7,623 | 4,226
Metal/Non-metal | 7,673 | 4,631
30 CFR 49.9:
Coal | 117 | 233
Metal/Non-metal | 31 | 62
30 CFR 75.1713-1:
Coal | 117 | 233
30 CFR 75.1702:
Coal | 166 | 332
Coal total | 24,662 | 13,166
Metal/Non-metal total | 24,306 | 12,786
Grand total | 48,968 | 25,952

Total Annualized Capital/Startup Costs: $0.

Total Annual Costs (operating/maintaining systems or purchasing services): $561,306.

Description: Under 30 CFR part 49, Mine Rescue Teams, the regulations set standards related to the availability of mine rescue teams; alternate mine rescue capability for small and remote mines and mines with special mining conditions; inspection and maintenance records of mine rescue equipment and apparatus; physical requirements for mine rescue team members and alternates; and experience and training requirements for team members and alternates. Parts 75 and 77 requires that coal mine operators make arrangements with a licensed physician, medical service, medical clinic, or hospital and with an ambulance service to provide 24-hour emergency medical assistance and transportation. That information is to be posted at the mine.

Ira L. Mills,
Departmental Clearance Officer.

[FR Doc. 03-31537 Filed 12-22-03; 8:45 am]

BILLING CODE 4510-43-P